DEPARTMENT OF EDUCATION

Notice of Proposed Information Collection Request

AGENCY: Department of Education.

ACTION: Correction notice.

SUMMARY: On August 27, 2009, the Department of Education published a comment period notice in the Federal Register (Page 43689, Column 1) seeking public comment for an information collection entitled, “Federal Pell Grant Program—Maximum Pell Grant to Children of Soldiers”. We are now withdrawing this information collection as we can obtain this information through other means, and therefore do not collect this data from the public. The IC Clearance Official, Regulatory Information Management Services, Office of Management, hereby issues a correction notice as required by the Paperwork Reduction Act of 1995.

Dated: September 30, 2009.
Angela C. Arrington,
IC Clearance Official, Regulatory Information Management Services, Office of Management.

[FR Doc. E9-24042 Filed 10-5-09; 8:45 am]

BILLING CODE P